DEPARTMENT OF TRANSPORTATION

Federal Aviation Administration

14 CFR Part 71

[Docket No. FAA-2022-0624; Airspace Docket No. 22-ACE-3]

RIN 2120-AA66

Amendment of Area Navigation (RNAV) Route Q-136; MI

AGENCY: Federal Aviation Administration (FAA), DOT.

ACTION: Final rule.

SUMMARY: This action amends the description of Area Navigation (RNAV) route Q-136 by changing the name of the “BAACN”, IA, waypoint (WP) to “DIYAP”. The FAA is taking this action due to a similarly pronounced and sounding Fix (BACNN, MO) located approximately 55 nautical miles (NM) southwest of the BAACN WP which contributes to communications errors resulting from the similar-sounding Fix and WP names in radio communications. In addition, the FAA is making minor editorial changes to the Q-136 route description to standardize the format.

DATES: Effective date 0901 UTC, November 3, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route description while retaining the route structure as necessary to preserve the safe and efficient flow of air traffic within the National Airspace System.

History

In 2019, the FAA published a final rule for Docket No. FAA-2018-0232 in the Federal Register (84 FR 10407; March 21, 2019) that established the BAACN, IA, WP and extended Q-136 to that WP in support of new standard instrument departures (SIDs) and standard terminal arrival routes (STARs) developed for Denver International Airport and surrounding airports. At that time, there was a BACNN, MO, Fix located at the intersection of Jet Routes J-18 and J-25 approximately 55 NM southwest of the new BAACN, IA, WP. The BACCN Fix and the BAACN WP are both verbalized as “bacon” in air to ground communications between air traffic control (ATC) and aircraft flight crews, and the similar-sounding Fix and WP names have contributed, on occasion, to confusion and communication errors between ATC and flight crews. To eliminate future misunderstandings, the FAA is changing the “BAACN” WP name to “DIYAP”. This is a WP name change only and the geographic position of the WP remains the same as currently published.

Additionally, the FAA is making a minor editorial change to the Q-136 description to spell out the Coaldale, NV, VHF Omnidirectional Range/Tactical Air Navigation (VORTAC) navigational aid name in accordance with existing route description formatting guidance. This editorial change standardizes the format of route descriptions and does not affect the alignment of Q-136.

United States Area Navigation Routes (Q-routes) are published in paragraph 2006 of FAA Order JO 7400.11F, dated August 10, 2021, and effective September 15, 2021, which is incorporated by reference in 14 CFR 71.1. The Q-136 route description listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by changing the name of the “BAACN” WP in the RNAV route Q-136 description to “DIYAP” to overcome the similar-sounding pronunciation of the BACCN, MO, Fix and the BAACN, IA, WP located approximately 55 NM apart. Additionally, this action makes a minor editorial change to the route description to standardize the format. These changes are administrative and do not affect the existing alignment of the route. The charted depiction of Q-136 is unchanged and the full route description is listed in “The Amendment” section, below.

This administrative change of the BAACN WP name in the existing Q-136 RNAV route description and the editorial formatting correction of the Coaldale, NV, VORTAC listed in the description do not affect the route structure, charted alignment, or the operating requirements of the route. Therefore, notice and public procedure under 5 U.S.C. 553(b) is unnecessary.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending RNAV route Q-136, by changing the “BAACN” WP name to “DIYAP”, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of the FAA Order JO 7400.11F, Airspace Designations and Reporting Points, dated August 10, 2021, and effective September 15, 2021, is amended as follows:

Paragraph 2006. United States Area Navigation Routes.

* * * * *

Q-136 Coaldale, NV (OAL) to DIYAP, IA [Amended]
Coaldale, NV (OAL) | VORTAC | (Lat. 38°00′11.74″ N, long. 117°46′13.60″ W)
RUMPS, NV | WP | (Lat. 38°07′10.00″ N, long. 117°16′15.00″ W)
KATTS, NV | WP | (Lat. 38°20′00.00″ N, long. 116°20′00.00″ W)
WEEMN, UT | WP | (Lat. 39°21′57.00″ N, long. 109°58′02.80″ W)
COUGH, CO | WP | (Lat. 39°53′45.04″ N, long. 105°14′56.79″ W)
ZIRKL, NE | WP | (Lat. 40°07′56.94″ N, long. 101°22′17.29″ W)
DIYAP, IA | WP | (Lat. 40°58′29.04″ N, long. 093°47′25.79″ W)

* * * * *

Issued in Washington, DC, on August 9, 2022.
Scott M. Rosenbloom,
Manager, Airspace Rules and Regulations.

[FR Doc. 2022-17409 Filed 8-15-22; 8:45 am]

BILLING CODE 4910-13-P